DEPARTMENT OF COMMERCE

National Oceanic and Atmospheric Administration

[I.D. 020806B]

Endangered Species; Permits No. 1489, 1505, and 1516

AGENCY: National Marine Fisheries Service (NMFS), National Oceanic and Atmospheric Administration (NOAA), Commerce.

ACTION: Notice; Issuance of permits.

SUMMARY: Notice is hereby given that the following individuals have been issued scientific research permits to take shortnose sturgeon (Acipenser brevirostrum): Dr. James P. Kirk (Permit Holder and Principal Investigator), United States Army Engineer Research and Development Center, Environmental Lab (ATTN: EE-A), 3909 Halls Ferry Road, Vicksburg, MS 39180 (Permit No. 1489); Mr. Douglas W. Cooke (Permit Holder and Principal Investigator), South Carolina Department of Natural Resources, Freshwater Fisheries Section, P.O. Drawer 190 - 305 Black Oak Road, Bonneau, SC 29431 (Permit No. 1505); and Mr. Thomas F. Savoy (Permit Holder and Principal Investigator), Connecticut Department of Environmental Protection, Marine Fisheries Division, P.O. Box 719, Old Lyme, CT 06371 (Permit No. 1516).

ADDRESSES: The permits and related documents are available for review upon written request or by appointment in the following offices:

All documents: Permits, Conservation and Education Division, Office of Protected Resources, NMFS, 1315 East-West Highway, Room 13705, Silver Spring, MD 20910; phone (301)713-2289; fax (301)427-2521;

For File Nos. 1489 and 1505: Southeast Region, NMFS, 263 13th Avenue South, St. Petersburg, FL 33701; phone (727)824-5312; fax (727)824-5309; and

For File No. 1516: Northeast Region, NMFS, One Blackburn Drive, Gloucester, MA 01930-2298; phone (978)281-9328; fax (978)281-9394.

FOR FURTHER INFORMATION CONTACT: Shane Guan, (301)713-2289.

SUPPLEMENTARY INFORMATION: The requested permits have been issued under the authority of the Endangered Species Act of 1973, as amended (ESA; 16 U.S.C. 1531 et seq.) and the regulations governing the taking, importing, and exporting of endangered and threatened species (50 CFR parts 222-226).

Issuance of these permits, as required by the ESA, was based on a finding that such permits (1) were applied for in good faith, (2) will not operate to the disadvantage of such endangered or threatened species, and (3) are consistent with the purposes and policies set forth in section 2 of the ESA.

Dated: June 26, 2006.
P. Michael Payne,
Chief, Permits, Conservation and Education Division, Office of Protected Resources, National Marine Fisheries Service.

[FR Doc. E6-10315 Filed 6-29-06; 8:45 am]

BILLING CODE 3510-22-S